DEPARTMENT OF AGRICULTURE

Forest Service

Information Collection; Secure Rural Schools and Community Self-Determination Act of 2000

AGENCY: Forest Service, USDA.

ACTION: Notice; request for comment.

SUMMARY: In accordance with the Paperwork Reduction Act of 1995, the Forest Service is seeking comments from all interested individuals and organizations on an extension of an information collection associated with the Secure Rural Schools and Community Self-Determination Act of 2000 (Public Law 106-393). Annually, each State Treasurer for those States containing National Forest System lands is requested to notify the Forest Service, by September 30, of the projected payment distributions to each county and, when required, each county's elected proportion of funds for Title II or for Title III of the act. Every two years, these States are also asked to provide the Forest Service with information on which counties elect to continue receiving their share of the State's payment under the 25 percent fund (16 U.S.C. 500) and which counties elect to receive their share of the State's full payment amount under the 2000 act.

DATES: Comments must be received in writing on or before September 6, 2002 to be assured of consideration. Comments received after that date will be considered to the extent practicable.

ADDRESSES: Comments concerning this notice should be addressed to the Director, Policy Analysis Staff, Forest Service, USDA, Mail Stop 1131, 1400 Independence Ave., SW., Washington, DC 20250-1131.

Comments also may be submitted to the Director via facsimile transmission to (202) 205-1074 or by e-mail to tquinn01@fs.fed.us.

The public may inspect comments received at Forest Service headquarters in the Yates Federal Building, 201 14th Street, SW., Room 1 SW., Washington, DC, during normal business hours. Visitors are encouraged to call (202) 205-1775 to facilitate entry to the building.

FOR FURTHER INFORMATION CONTACT: Tom Quinn, Policy Analysis Unit, (202) 205-1775 or tquinn01@fs.fed.us. Individuals who use telecommunication devices for the deaf (TDD) may call the Federal Information Relay Service (FIRS) at 1-800-877-8339 between 8 a.m. and 8 p.m., Eastern Standard Time, Monday through Friday.

SUPPLEMENTARY INFORMATION:

Description of Information Collection

Title: Secure Rural Schools and Community Self-Determination Act of 2000.

OMB Number: 0596-0165.

Expiration Date of Approval: 3/31/2002.

Type of Request: Extension with no revision.

Abstract: On May 23, 1908, the U.S. Congress enacted 16 U.S.C. 500, which created what is commonly known as the Twenty-Five Percent Fund. Under this act, States receive payment from the Federal Government of twenty-five percent of the revenues generated from the national forests that are located within their borders. On October 30, 2000, the Congress enacted the Secure Rural Schools, and Community Self-Determination Act (Public Law 106-393; hereafter, the act), which is intended to restore stability and predictability to the annual payments made to States and counties containing National Forest System lands and public domain lands managed by the Bureau of Land Management. Like the 25 percent fund, the counties may use the proceeds only for the benefit of public schools, roads, and other purposes.

The Secretary of Agriculture is directed to implement the act. Under the act, eligible counties and their States need to reach an agreement on the distribution of funds authorized by the act and the amount that each county will receive as its share of the State's full payment amount. Counties will need to determine whether they wish to continue to receive their share of the State's twenty-five percent payment or whether they choose their share of the State's full payment amount through the act. A decision to receive a share of the State's 25 percent payment is effective for two years; a decision to receive a share of the act's full payment amount stays in effect through fiscal year 2006.

Those counties choosing the full payment and receiving more than $100,000 under the act are required to make an election regarding the proportion of their funds (between fifteen and twenty percent) to be applied to Title II or Title III of the act. Title II allows the funds paid under the act to be used for special projects on Federal lands that meet the requirements described in Title II of the act, and Title III allows the funds to be spent on county projects that meet the requirements described under Title III of the act. Annually, each State Treasurer is requested to notify the Forest Service, by September 30, of the projected payment distributions to each county and, when required, each county's elected proportion of funds for Title II or for Title III.

Upon receipt, the Forest Service will evaluate the information from States in order to properly implement the act. States and counties must provide the requested information in order for the Forest Service to properly calculate and distribute the State's full payment amount authorized by Public Law 106-393 and, by extension, provide counties with their commensurate share of that full payment amount. This information collection is a vital and integral part of the Forest Service's ability to implement the act. Failure to implement the act would potentially lead to unnecessary harm to those schools and counties that benefit from the funds.

Estimate of Annual Burden: 30 minutes.

Type of Respondents: State Treasurers and Counties.

Estimated Annual Number of Respondents: 41.

Estimated Annual Number of Responses per Respondent: 1.

Estimated Total Annual Burden on Respondents: 22 hours per year.

Comment is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the information collection submission for Office of Management and Budget approval.

Dated: July 2, 2002.
Elizabeth Estill,
Deputy Chief, Programs and Legislation.

[FR Doc. 02-17043 Filed 7-5-02; 8:45 am]

BILLING CODE 3410-11-P